DEPARTMENT OF ENERGY

Federal Energy Regulatory Commission

[Docket No. OR16-17-000]

Tricon Energy Ltd. and Rockbriar Partners Inc. v. Colonial Pipeline Company; Notice of Complaint

Take notice that on May 9, 2016, Tricon Energy Ltd. (Tricon) and Rockbriar Partners Inc. (Rockbriar) (collectively, Complainants) filed a protest, complaint, and motion to intervene in response to Colonial Pipeline Company's (Colonial or Respondent) tariff filing in Docket No. IS16-259-000. The motion to intervene and protest portion of Tricon's and Rockbriar's pleading was placed in the IS16-259-000 docket. The complaint portion of Tricon's and Rockbriar's pleading is being separately docketed in the proceeding captioned above.

Tricon and Rockbriar assert that Colonial is attempting to enforce a shipper history transfer policy that is not in the tariff that locks out New Shippers from obtaining capacity on Colonial in violation of Colonial's statutory common carrier duty set forth in section 1(4) of the Interstate Commerce Act (ICA). Tricon and Rockbriar assert that Colonial's practice violates the ICA's tariff publication requirement in section 6(1), as well as the Commission's regulations at 18 CFR 341.0(b)(1), 341.3(b)(6), and 341.8. Tricon and Rockbriar assert that Colonial's New Shipper lockout policy is a facet of its prorationing policy, and a restriction on service, that has not been reviewed and approved by the Commission to be part of Colonial's Tariff.

The Complainants certifies that copies of the complaint were served on the Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 31, 2016.

Dated: May 13, 2016.
Nathaniel J. Davis, Sr.,
Deputy Secretary.

[FR Doc. 2016-11888 Filed 5-19-16; 8:45 am]

BILLING CODE 6717-01-P